DEPARTMENT OF HEALTH AND HUMAN SERVICES

Office of the Secretary

Office for Civil Rights; Statement of Organization Functions and Delegations of Authority

Part A of the Office of the Secretary, Statement of Organization, Functions, and Delegation of Authority for the Department of Health and Human Services is being amended at, Chapter AT, Office for Civil Rights (OCR), as last amended at 57 FR 14723, 4/22/92. The changes are to streamline the OCR headquarters by establishing an Office of the Deputy Director, who will have day-to-day responsibility for OCR functions, and realigning the headquarters program operations, policy, and resource management functions into the following components; Program, Policy and Training Division; Voluntary Compliance and Outreach Division; and a Resources Management Division. The changes are as follows:

I

Delete Section AT.00 Mission, At.10 Organization, and AT.20 Functions paragraph A through the first paragraph of C.4, and replace with the following:

Section AT.00 Mission

The Department of Health and Human Services, through the Office for Civil Rights, promotes and ensures that people have equal access to and opportunity to participate in and receive services in all HHS programs without facing unlawful discrimination. Through prevention and elimination of unlawful discrimination, the Office for Civil Rights helps HHS carry out its overall mission of improving the health and well-being of all people affected by its many programs. Ensuring the nondiscriminatory provision of services funded or provided directly by the Department is a continuing challenge to all of the Department's employees.

Section AT.10 Organization

The Office for Civil Rights is led by a Director who reports to the Secretary. The Director also serves as the Secretary's Special Assistant for Civil Rights and is responsible for overall coordination of the Department's civil rights compliance and enforcement activities. The Office is comprised of the following components:

Office of the Director (ATA)

Office of the Deputy Director (ATB)

Program, Policy and Training Division (ATB1)

Voluntary Compliance and Outreach Division (ATB2)

Resource Management Division (ATB3)

Regional Offices for Civil Rights (ATD1 through ATDX)

Section AT.20 Functions

A. Office of the Director (ATA). As the Department's chief officer for the enforcement of the nondiscrimination provisions of law and as adviser to the Secretary on civil rights, the Director is responsible for the overall leadership and operations of the Office for Civil Rights; establishes policy and serves as adviser to the Secretary on civil rights issues, including intra-departmental activities aimed at incorporating civil rights compliance into programs the Department administers and/or operates directly; sets overall direction and priorities of the Office through budget requests, strategic planning, and results-oriented operating and performance plans; maintains liaison with other Federal departments and agencies charged with civil rights enforcement responsibilities; coordinates with the White House on civil rights and related policies; maintains liaison with the Congress in coordination and consultation with the Assistant Secretary for Legislation, notifying appropriate Congressional committees of significant civil rights developments and informing members of compliance developments affecting recipients of Federal funds in their Congressional districts; determines policies and standards for civil rights investigations, enforcement and voluntary compliance and outreach programs in coordination with the Secretary and other Federal agencies; represents the Secretary before Congress and the Executive Office of the President on matters relating to civil rights; and solicits the participation of program beneficiaries and recipients of HHS funds in implementing the Department's civil rights enforcement, voluntary compliance and outreach programs.

A Principal Deputy Director serves as the alter ego of the Director and acts for the Director in his/her absence. The Office of the Director ensures that all documents requiring review or approval by the Director are assigned, cleared and/or monitored for timely action/responses to the Office's stakeholders and customers, including the Secretary, Departmental components, Congress, other government agencies, beneficiary and advocacy organizations, and the public. The Office of the Director includes an Executive Secretariat function and a central support services coordination function.

B. Office of the Deputy Director (ATB). This office is headed by a Deputy Director who reports to the Office of the Director, OCR. The Deputy Director coordinates the day-to-day operations of headquarters, overseeing program operations, policy development, and administrative, budget and human resources activities, including OCR's internal coordination responsibilities.

The Office of the Deputy Director includes three headquarters units that report to the Deputy Director: (1) the Program, Policy and Training Division; (2) the Voluntary Compliance and Outreach Division; and (3) the Resource Management Division. OCR Regional Managers also report to the Deputy Director.

1. Program, Policy and Training Division (ATB1). This Division develops policy and assists in implementation of OCR's compliance and enforcement program; plans and coordinates OCR's high priority civil rights program initiatives; assesses results of compliance activities, including, but not limited to, reviewing challenges; conducts policy and HHS program-related research; advises OCR staff nationwide on case development and quality; assists in developing negotiation, enforcement, and litigation strategies; identifies training needs and designs training programs for OCR staff; develops civil rights surveys; manages media and public relations; coordinates OCR's inter-governmental relations activities; and provides civil rights and program advice to OCR staff nationwide, other HHS components and external stakeholders.

2. Voluntary Compliance and Outreach Division (ATB2). This Division provides technical assistance to and conducts pre-grant reviews of providers/applicants seeking Medicare certification and other program participation funded by the Department to determine their ability to comply with civil rights requirements; provides guidance and assistance to OCR field offices, in coordination with the Program, Policy and Training Division, for ensuring uniform and efficient implementation of pre-grant processing policies and procedures; maintains civil rights assurance of compliance forms for permanent reference; maintains liaison with and provides civil rights technical assistance and advisory services to HHS Operating Divisions (OPDIVS), national advocacy, beneficiary, and provider groups, and to other Federal departments and agencies with respect to civil rights outreach programs, initiatives, and mandates.

3. Resource Management Division (ATB3). This Division implements OCR's administrative, financial, information resource management (IRM), data collection, and personnel functions. The Division formulates and executes OCR's budget; designs and maintains systems and data bases; administers OCR networks, including Internet and Intranet coordination; develops management, administrative and IRM policy; and manages personnel processing and performance management and employee recognition systems.

4. Regional Office for Civil Rights (ATD1 through ATDX). The Regional Managers, Office for Civil Rights report directly to the Deputy Director.

II. Delegations of Authority

All delegations and redelegations of authority to officials of the Office for Civil Rights that were in effect prior to the effective date of this reorganization shall continue in effect pending further redelegation.

Dated: March 22, 2000.
John J. Callahan,
Assistant Secretary for Management and Budget.

[FR Doc. 00-8858 Filed 4-10-00; 8:45 am]

BILLING CODE 4153-01-M